DEPARTMENT OF COMMERCE

National Oceanic and Atmospheric Administration

[I.D. 032505A]

Pacific Fishery Management Council; Public Meeting

AGENCY: National Marine Fisheries Service (NMFS), National Oceanic and Atmospheric Administration (NOAA), Commerce.

ACTION: Notice of public meeting.

SUMMARY: The Groundfish Stock Assessment Review (STAR) Panel for English sole, petrale sole, and starry flounder will hold a work session that is open to the public. The purpose of the meeting is to review draft stock assessment documents and any other pertinent information, work with the Stock Assessment Teams to make necessary revisions, and produce a STAR Panel report for use by the Council family and other interested persons. No management actions will be decided.

DATES: The meeting will be held from Monday, April 18, 2005, through Friday, April 22, 2005, beginning at 8 a.m. every morning and ending at 5 p.m. each day, or as necessary to complete business.

ADDRESSES: On April 18-20, and 22, 2005, the meeting will be held at NMFS' Northwest Fisheries Science Center (NWFSC), 2725 Montlake Boulevard East, Seattle, WA 98112; telephone: 206-860-3200. On April 21, 2005, the meeting will be held at the University Inn, 4140 Roosevelt Way NE, Seattle, WA 98105; telephone: 206-632-5055.

Council address: Pacific Fishery Management Council (PFMC), 7700 NE Ambassador Place, Suite 200, Portland, OR 97220-1384.

FOR FURTHER INFORMATION CONTACT: Stacey Miller, NWFSC; telephone: 206-860-3480; or John DeVore, PFMC; telephone: 503-820-2280.

SUPPLEMENTARY INFORMATION: The purpose of the STAR Panel meeting is to review draft stock assessment documents and any other pertinent information, work with the Stock Assessment Teams to make necessary revisions, and produce a STAR Panel report for use by the Council family and other interested persons. No management actions will be decided by the STAR Panel. The STAR Panel's role will be development of recommendations and reports for consideration by the Council at its June 2005 meeting in Foster City, CA.

Although non-emergency issues not contained in the meeting agenda may come before the STAR Panel participants for discussion, those issues may not be the subject of formal STAR Panel action during this meeting. STAR Panel action will be restricted to those issues specifically listed in this notice and any issues arising after publication of this notice that require emergency action under section 305(c) of the Magnuson-Stevens Fishery Conservation and Management Act, provided the public has been notified of the STAR Panel participants' intent to take final action to address the emergency.

Special Accommodations

This meeting is physically accessible to people with disabilities. Requests for sign language interpretation or other auxiliary aids should be directed to Carolyn Porter at 503-820-2280 at least five days prior to the meeting date.

Entry to the NWFSC requires visitors to show a valid picture ID and to register with security. A visitor's badge, which must be worn while at the NWFSC facility, will be issued to non-federal employees participating in the meeting.

Dated: March 25, 2005.
Regina L. Spallone,
Acting Director, Office of Sustainable Fisheries, National Marine Fisheries Service.

[FR Doc. 05-6312 Filed 3-29-05; 8:45 am]

BILLING CODE 3510-22-S